DEPARTMENT OF ENERGY

Federal Energy Regulatory Commission

Combined Notice of Filings

Take notice that the Commission has received the following Natural Gas Pipeline Rate and Refund Report filings:

Filings Instituting Proceedings

Docket Number: PR19-34-000.

Applicants: Washington Gas Light Company.

Description: Tariff filing per 284.123(b),(e)/: New Rate Election for Firm Transportation Service to be effective 2/1/2019.

Filed Date: 2/1/19.

Accession Number: 201902015068.

Comments/Protests Due: 5 p.m. ET 2/22/19.

Docket Number: PR19-35-000.

Applicants: Southcross Mississippi Pipeline, L.P.

Description: Tariff filing per 284.123(b)(2)+(g): Petition for Rate Approval and Amended Statement of Operating Conditions to be effective 2/1/2019.

Filed Date: 2/1/19.

Accession Number: 201902015117.

Comments Due: 5 p.m. ET 2/22/19.

284.123(g) Protests Due: 5 p.m. ET 4/22/19.

Docket Numbers: RP19-289-001.

Applicants: Southern Star Central Gas Pipeline, Inc.

Description: Compliance filing Offer and Petition for Approval of Settlement—Compliance Filing to be effective 1/1/2019.

Filed Date: 2/5/19.

Accession Number: 20190205-5121.

Comments Due: 5 p.m. ET 2/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 6, 2019.
Nathaniel J. Davis, Sr.,
Deputy Secretary.

[FR Doc. 2019-02079 Filed 2-11-19; 8:45 am]

BILLING CODE 6717-01-P